DEPARTMENT OF COMMERCE

International Trade Administration

[A-552-812]

Steel Wire Garment Hangers From the Socialist Republic of Vietnam: Rescission of Antidumping Duty Administrative Review; 2016-2017

AGENCY: Enforcement and Compliance, International Trade Administration, Department of Commerce.

SUMMARY: The Department of Commerce (the Department) is rescinding the administrative review of the antidumping duty order on steel wire garment hangers from the Socialist Republic of Vietnam (Vietnam). The period of review is February 1, 2016, through January 31, 2017.

DATES: Effective May 5, 2017.

FOR FURTHER INFORMATION CONTACT: Jessica Weeks, AD/CVD Operations, Office V, Enforcement and Compliance, International Trade Administration, Department of Commerce, 1401 Constitution Avenue NW., Washington, DC 20230; telephone: (202) 482-4877.

SUPPLEMENTARY INFORMATION:

Background

On April 10, 2017, based on a timely request for review by M&B Metal Products Company, Inc. (the petitioner),¹ the Department published in the Federal Register a notice of initiation of an administrative review of the antidumping duty order on steel wire garment hangers from Vietnam covering the period February 1, 2016, through January 31, 2017.² The review covers 66 companies.³ On April 24, 2017, the petitioner withdrew its request for an administrative review on all 66 companies listed in the Initiation Notice.⁴ No other party requested a review of these exporters or any other exporters of subject merchandise.

¹ See Letter to the Secretary of Commerce from the petitioner, “Steel Wire Garment Hangers from Vietnam: Request for Fourth Administrative Review,” dated February 17, 2017 (Request for Review).

² See Initiation of Antidumping and Countervailing Duty Administrative Reviews, 82 FR 17188 dated April 10, 2017 (Initiation Notice). In the Initiation Notice, the Department inadvertently listed one company, Nghia Phuong Nam Production Company, as Nghia Phoung Nam Production Company. The correct company name for which a review was requested is Nghia Phuong Nam Production Company. See also Request for Review at Attachment 1.

³ Id., 82 FR at 17196-17197.

⁴ See Letter to the Secretary of Commerce from the petitioner, “Fourth Administrative Review of Steel Wire Garment Hangers from Vietnam—Petitioner's Withdrawal of Review Request,” dated April 24, 2017.

Rescission of Review

Pursuant to 19 CFR 351.213(d)(1), the Department will rescind an administrative review, in whole or in part, if the party that requested the review withdraws its request within 90 days of the publication of the notice of initiation of the requested review. In this case, the petitioner timely withdrew its request by the 90-day deadline, and no other party requested an administrative review of the antidumping duty order. As a result, pursuant to 19 CFR 351.213(d)(1), we are rescinding the administrative review of the antidumping duty order on steel wire garment hangers from Vietnam for the period February 1, 2016, through January 31, 2017, in its entirety.

Assessment

The Department will instruct U.S. Customs and Border Protection (CBP) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice in the Federal Register, if appropriate.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: May 2, 2017.
Gary Taverman,
Associate Deputy Assistant Secretary for Antidumping and Countervailing Duty Operations.

[FR Doc. 2017-09145 Filed 5-4-17; 8:45 am]

BILLING CODE 3510-DS-P